DEPARTMENT OF STATE

[Public Notice 8933]

Culturally Significant Objects Imported for Exhibition Determinations: “Arts of Islamic Lands: Masterpieces From The al-Sabah Collection, Kuwait”

AGENCY: Department of State.

ACTION: Notice, correction.

SUMMARY: On December 10, 2012, notice was published on page 73511 of the Federal Register (volume 77, number 237) of determinations made by the Department of State pertaining to the exhibition “Arts of Islamic Lands: Masterpieces from The al-Sabah Collection, Kuwait.” The referenced notice is corrected here to include additional objects as part of the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the additional objects to be included in the exhibition “Arts of Islamic Lands: Masterpieces from The al-Sabah Collection, Kuwait,” imported from abroad for temporary exhibition within the United States, are of cultural significance. The additional objects are imported pursuant to a loan agreement with the foreign owner or custodian. I also determine that the exhibition or display of the additional objects at the Museum of Fine Arts, Houston, Houston, Texas, from on or about January 31, 2015, until on or about January 20, 2018, and at possible additional exhibitions or venues yet to be determined, is in the national interest. I have ordered that Public Notice of these Determinations be published in the Federal Register.

FOR FURTHER INFORMATION CONTACT: For further information, including a list of the additional objects, contact Paul W. Manning, Attorney-Adviser, Office of the Legal Adviser, U.S. Department of State (telephone: 202-632-6469). The mailing address is U.S. Department of State, SA-5, L/PD, Fifth Floor (Suite 5H03), Washington, DC 20522-0505.

Dated: October 16, 2014.
Kelly Keiderling,
Principal Deputy Assistant Secretary, Bureau of Educational and Cultural Affairs, Department of State.

[FR Doc. 2014-25728 Filed 10-28-14; 8:45 am]

BILLING CODE 4710-05-P